ENVIRONMENTAL PROTECTION AGENCY

[FRL-8252-7]

Ecological Benefits Assessment Strategic Plan

AGENCY: Environmental Protection Agency (EPA).

ACTION: Notice of availability.

SUMMARY: EPA is announcing the availability of a document titled, “Ecological Benefits Assessment Strategic Plan” (EPA-240-R-06-001), which was prepared by several Offices within the Agency. The Ecological Benefits Assessment Strategic Plan identifies and communicates key research and institutional actions that will improve EPA's ability to perform assessments of the ecological benefits of its environmental policies and decisions.

DATES: This document will be available on or about December 18, 2006.

ADDRESSES: The Ecological Benefits Assessment Strategic Plan is available for downloading via the Internet on EPA's National Center for Environmental Economics home page at http://www.epa.gov/economics.

FOR FURTHER INFORMATION CONTACT: For technical information, contact Dr. Wayne R. Munns, Jr., U.S. EPA/ORD National Health and Environmental Effects Research Laboratory, telephone: 401-782-3017; facsimile: 401-782-9683; or e-mail: munns.wayne@epa.gov or Dr. Sabrina Lovell, U.S. EPA/OPEI National Center for Environmental Economics, telephone: 202-566-2272; facsimile: 202-566-2339; or e-mail: ise-lovell.sabrina@epa.gov.

SUPPLEMENTARY INFORMATION: The Ecological Benefits Assessment Strategic Plan was developed to guide future research and institutional actions for improving ecological benefits assessments conducted by the Agency. The goal of an ecological benefits assessment is to estimate the benefits of an environmental policy, and when appropriate, estimate the value to society in monetary terms. This facilitates comparisons among policy alternatives to support decision-making. In practice however, ecological benefits are difficult to evaluate. Several factors contribute to this challenge, including limited understanding of: (1) The linkages among policies, stressors, and ecosystem services; (2) the linkages within and between ecosystems; and (3) the linkages between ecological and economic systems. EPA developed the Ecological Benefits Assessment Strategic Plan to improve our understanding of these linkages.

The Ecological Benefits Assessment Strategic Plan was authored by a cross-Agency workgroup under the general direction of a steering committee representing offices involved with ecological benefits assessment. The plan describes the challenges currently faced by EPA in conducting comprehensive and rigorous ecological benefits assessments. It encourages a model of interdisciplinary participation in benefits assessments and research, and it promotes collaboration among economists, ecologists, and other natural and social scientists to facilitate identification and characterization of the important ecological benefits of Agency actions. The Plan also identifies strategic actions focusing on: institutional arrangements that foster interdisciplinary analyses and provide analysts with appropriate guidance and tools; interdisciplinary research that directly supports ecological benefits assessments, including broad methodological development and specific studies about resources, stressors, localities, and policies; and coordination of efforts with external partners. The Ecological Benefits Assessment Strategic Plan also describes mechanisms to facilitate adaptive implementation of the strategic actions, including periodic adjustments to reflect advances in knowledge. A primary audience for the Ecological Benefits Assessment Strategic Plan is the managers and analysts in EPA Program Offices, and natural and social scientists across the Agency.

The Ecological Benefits Assessment Strategic Plan was subjected to broad Agency review and external peer review by the Committee on Valuing the Protection of Ecological Systems and Services of EPA's Science Advisory Board. The final plan reflects the comments of both internal and external review.

Dated: December 12, 2006.
Nathalie B. Simon,
Acting Director, National Center for Environmental Economics.

[FR Doc. E6-21543 Filed 12-15-06; 8:45 am]

BILLING CODE 6560-50-P